DEPARTMENT OF HOMELAND SECURITY

U.S. Citizenship and Immigration Services

8 CFR Part 274a

[CIS No. 2441-08; Docket No. USCIS-2008-0001]

RIN 1615-AB69

Documents Acceptable for Employment Eligibility Verification; Correction

AGENCY: U.S. Citizenship and Immigration Services, DHS.

ACTION: Interim rule; correction.

SUMMARY: On December 17, 2008, the Department of Homeland Security (DHS) published an interim rule in the Federal Register amending its regulations governing the types of acceptable identity and employment authorization documents and receipts for completion of the Form I-9, Employment Eligibility Verification. On February 3, 2009, USCIS delayed the effective date of the interim rule until April 3, 2009. On February 23, 2009, DHS published a final rule that amended the same section of the Code of Federal Regulations (CFR) as the interim rule, resulting in an inadvertent error in the interim rule's amendatory language. This document corrects that inadvertent error.

DATES: Effective Date: This correction is effective April 3, 2009.

FOR FURTHER INFORMATION CONTACT: Stephen McHale, Verification Division, U.S. Citizenship and Immigration Services, Department of Homeland Security, 470 L'Enfant Plaza East, SW., Suite 8001, Washington, DC 20529-2600, telephone (888) 464-4218 or e-mail at Everify@dhs.gov.

SUPPLEMENTARY INFORMATION:

Need for Correction

On December 17, 2008, DHS published an interim rule in the Federal Register at 73 FR 76505. The interim rule amended 8 CFR 274a.2 by revising paragraph (b)(1)(v)(A).

On February 3, 2009, DHS published a document in the Federal Register at 74 FR 5899, delaying the effective date of the December 17th interim rule until April 3, 2009, and extending the comment period until March 4, 2009. This extension was necessary to allow for further review and consideration of the interim rule by DHS officials.

On February 23, 2009, DHS published a final rule in the Federal Register at 74 FR 7993, providing for employer-specific employment authorization for certain aliens lawfully enlisted in the U.S. Armed Forces. The final rule became effective on February 23, 2009, and amended 8 CFR 274a.2 by:

• Adding and reserving paragraph (b)(1)(v)(A)(6) and by

• Adding paragraph (b)(1)(v)(A)(7).

Since the December 17th interim rule becomes effective after the February 23rd final rule, the amendatory language revising 8 CFR 274a.2(b)(1)(v)(A) in the interim rule would inadvertently remove the new paragraph (b)(1)(v)(A)(7) of the final rule. This correction will fix that inadvertent error.

Correction of Publication

Accordingly, the publication on December 17, 2008 (73 FR 76505) of the interim rule that was the subject of FR Doc. E8-29874 is corrected as follows:

PART 274a—CONTROL OF EMPLOYMENT OF ALIENS

§ 274a.2 [Corrected]

1. On page 76511, in the first column, instruction 2d should be revised to read: “Revising paragraphs (b)(1)(v)(A)(1) through (5), and adding paragraph (b)(1)(v)(A)(6);”

2. On page 76511, in the first column, add an instruction immediately after instruction 2d to read: “Paragraph (b)(1)(v)(A) is further amended by removing the period at the end of paragraph (b)(1)(v)(A)(6) and adding a “; “ in its place.

Dated: March 5, 2009.
Michael Aytes,
Acting Deputy Director, U.S. Citizenship and Immigration Services.

[FR Doc. E9-5164 Filed 3-10-09; 8:45 am]

BILLING CODE 9111-97-P